DEPARTMENT OF ENERGY

Federal Energy Regulatory Commission

[Docket No. CP18-137-000]

Columbia Gas Transmission, LLC; Notice of Revised Schedule for Environmental Review of the Buckeye Xpress Project

This notice identifies the Federal Energy Regulatory Commission staff's revised schedule for the completion of the environmental assessment (EA) for Columbia Gas Transmission, LLC's (Columbia) Buckeye Xpress Project. The first notice of schedule, issued on February 28, 2019, identified April 8, 2019 as the EA issuance date based on receiving input from the U.S. Forest Service, our cooperating agency in preparation of this EA. The U.S. Forest Service is responsible for acting on Columbia's requested Special Use Permit necessary to cross the Wayne National Forest. An extension is required for the U.S. Forest Service to review Columbia's responses to recent information requests issued on March 1 and March 7, 2019, and to complete its respective input and to ensure that the EA will satisfy the needs of the federal permitting agencies. As a result, staff has revised the schedule for issuance of the EA.

Schedule for Environmental Review

Issuance of Notice of Availability of the EA May 20, 2019

90-day Federal Authorization Decision Deadline August 18, 2019

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-137), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 4, 2019.
Kimberly D. Bose,
Secretary.

[FR Doc. 2019-07222 Filed 4-11-19; 8:45 am]

BILLING CODE 6717-01-P